DEPARTMENT OF COMMERCE

National Telecommunications and Information Administration

Agency Information Collection Activities; Submission to the Office of Management and Budget (OMB) for Review and Approval; Comment Request; Connecting Minority Communities Pilot Program

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on February 16, 2022 during a 60-day comment period. This notice allows for an additional 30 days for public comments.

Agency: National Telecommunications and Information Administration (NTIA), Commerce.

Title: Connecting Minority Communities Pilot Program.

OMB Control Number: 0660-XXXX.

Form Number(s): None.

Type of Request: New information collection.

Number of Respondents: 100.

Average Hours per Response: 33.22.

Burden Hours: 13,288.

Needs and Uses: With this information collection, NTIA will monitor the grant recipients' spending for compliance with grant terms and conditions. In the absence of collecting this information, NTIA would fail to evaluate effectively the award recipients' progress toward completing project activities and achieving core purposes of the CMC. Moreover, without these reports, NTIA would lack the ability to monitor effectively the award recipients' expenditure of funds to deter waste, fraud, ad abuse of CMC funds. Therefore, it is necessary for NTIA to collect information using the Baseline Report, Semi-Annual Performance (Technical) Reports and Annual Report.

Affected Public: Grant award recipients consisting of Historically Black colleges or universities (HBCUs); Tribal Colleges or Universities (TCUs); Minority-serving institutions (MSIs); or consortiums that are led by a historically Black college or university, a Tribal College or University, or a Minority-serving institution and that also include: (a) an MBE; or (b) an organization described in section 501(c)(3) of the Internal Revenue Code of 1986 and exempt from tax under section 501(a) of such Code.

Frequency: Semi-annually and Annually; The Baseline Report is a one-time collection of information from award recipients covering project plans and details about key outputs and outcomes.

Respondent's Obligation: Mandatory.

Legal Authority: Consolidated Appropriations Act, 2021, Division N, Title IX, Section 905, Public Law 116-260, 134 Stat. 1182 (Dec. 27, 2020)

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Department of Commerce.

[FR Doc. 2022-12759 Filed 6-13-22; 8:45 am]

BILLING CODE 3510-60-P